NATIONAL SCIENCE FOUNDATION

Advisory Committee for Education and Human Resources; Notice of Meeting

In accordance with the Federal Advisory Committee Act (Pub. L. 92-463, as amended), the National Science Foundation (NSF) announces the following meeting:

Name: Advisory Committee for Education and Human Resources (#1119).

Date/Time: November 30, 2016; 8:00 a.m.-5:00 p.m.

December 1, 2016; 8:00 a.m.-1:00 p.m.

Place: National Science Foundation, 4201 Wilson Boulevard, Room 375, Arlington, VA 22230.

Operated assisted teleconference is available for this meeting. Call 888-658-9757 with password EHRAC and you will be connected to the audio portion of the meeting.

To attend the meeting in person, all visitors must contact the Directorate for Education and Human Resources (ehr_ac@nsf.gov) at least 24 hours prior to the teleconference to arrange for a visitor's badge. All visitors must report to the NSF visitor desk located in the lobby at the 9th and N. Stuart Streets entrance at 4201 Wilson Blvd. on the day of the teleconference to receive a visitor's badge.

Meeting materials and minutes will also be available on the EHR Advisory Committee Web site at http://www.nsf.gov/ehr/advisory.jsp.

Type of Meeting: Open, Teleconference.

Contact Person: Keaven M. Stevenson, National Science Foundation, 4201 Wilson Boulevard, Room 805, Arlington, VA 22230; (703) 292-8600; kstevens@nsf.gov.

Purpose of Meeting: To provide advice with respect to the Foundation's science, technology, engineering, and mathematics (STEM) education and human resources programming.

Agenda

Wednesday, November 30, 2016 8:00 a.m.-5:00 p.m.

Remarks by the Committee Chair and NSF Assistant Director for Education and Human Resources (EHR).

Discussion of Selected NSF Big Ideas Related to EHR Goals.

Committee of Visitor Report on Education Core Research

Discussion with France Córdova, NSF Director

Thursday, December 1, 2016 8:00 a.m.-1:00 p.m.

Discussion of INCLUDES and Selected NSF Big Ideas

Committee of Visitor Reports

Other Business

Adjournment

Dated: November 1, 2016.
Crystal Robinson,
Committee Management Officer.

[FR Doc. 2016-26664 Filed 11-3-16; 8:45 am]

BILLING CODE 7555-01-P